DEPARTMENT OF HOUSING AND URBAN DEVELOPMENT

[Docket No. FR-5480-N-13]

Notice of Proposed Information Collection: Comment Request; “eLogic Model” Grant Performance Report Standard

AGENCY: Office of the Chief Information Officer, HUD.

ACTION: Notice of Proposed Information Collection.

SUMMARY: The proposed information collection requirement described below has been submitted to the Office of Management and Budget (OMB) for review, as required by the Paperwork Reduction Act. The Department is soliciting public comments on the subject proposal.

DATES: Comments Due Date: April 25, 2011.

ADDRESSES: Interested persons are invited to submit comments regarding this proposal. Comments should refer to the proposal by name and/or OMB Control Number {2535-0114} and should be sent to: Barbara Dorf, Director, Office of Departmental Grants Management and Oversight, Department or Housing and Urban Development, 451 7th Street, SW., Room 3156, Washington, DC 20410 or e-mail at Barbara.Dorf@hud.gov.

FOR FURTHER INFORMATION CONTACT: Collette Pollard, Reports Management Officer, Department of Housing and Urban Development, 451 Seventh Street, Southwest, Washington, DC 20410; e-mail Collete.Pollard@HUD.gov; or Dorthera Yorkshire, Senior Program Analyst Office of Departmental Grants Management and Oversight at Dorthera.Yorkshire@hud.gov for copies of the proposed forms and other available information.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: ”eLogic Model” Grant Performance Report Standard”.

OMB Approval Number: 2535-0114.

Form Number: The agency form number is HUD 96010, each program utilizing the Logic Model will have the same form number and the Program Name following the number to associate the logic model to the specific program.

Description of the need for the information and proposed use: The revised form, which is an attachment to HUD Federal Financial Assistance applications. HUD uses standardized points for evaluating Logic Models submitted under Rating Factor 5, Achieving Results and Program Evaluation for programs using the Logic Model. The decision to standardize the basis for rating the Logic Model resulted from review of submitted Logic Models and rating factor narrative statements, and training sessions held with HUD staff and the applicant community. By standardizing the rating for the Logic Model submission, HUD believes that a greater understanding will be gained on the use and relationship of the Logic Model to information submitted as part of the Rating Factors for award. The standardization of the Logic Model submission in Rating Factor 5 highlights the relationship between the narratives produced in response to the factors for award, stated outputs and outcomes, and discrepancies or gaps that have been found to exist in submitted Logic Models. HUD also believes that the standardization will strengthen the use of the Logic Model as a management and evaluation tool. The Logic Model is a tool that integrates program operations and program accountability. It links program operations (mission, need, intervention, projected results, and actual results), and program accountability (measurement tool, data source, and frequency of data collection and reporting, including personnel assigned to function). Applicants/grantees should use it to support program planning, monitoring, evaluation, and other management function HUD uses the Logic Model and its electronic version, the eLogic Model®, to capture an executive summary of the application submission in data format, which HUD uses to evaluate the attainment of stated applicant goals and anticipated results. HUD also uses the data for policy formulation. HUD encourages applicants and those selected for award to use the Logic Model data to monitor and evaluate their own progress and effectiveness in meeting stated goals and achieving results consistent with the program purpose. To further this objective, and in response to grantee requests, the HUD eLogic Model® contains a column that allows the grantee to input results achieved for the reporting period, as well as Year-To-Date (YTD) in the reporting year tab for each year of the award. This added field allows the grantee to review performance each reporting period and for each year of the award “at a glance,” and without having to construct a report. The HUD eLogic Model® also has fields to capture the location (city, state, and nine digit Zip Code) where the majority of the activities take place, as well as a drop-down menu to identify the reporting period start and end date. In FY2010, HUD added a drop down field for the reporting period, as follows: Yr1Qtr1; Yr1Qtr2; Yr1Qtr3; Yr1Qtr4; Yr2Qtr5; Yr2Qtr6; Yr2Qtr7; Yr2Qtr8; Yr3Qtr9; Yr3Qtr10; Yr3Qtr11; Yr3Qtr12; and Final Report. The sequential numbering of the quarters was determined necessary because each start and end date within a program may vary by grantee, so it was difficult to determine the actual report that was sent in the order that they were received by HUD. If a grantee only reports semi annually, it would select Yr1 Quarter 2 as its first reporting period and Yr1 Quarter 4 as its second semi-annual reporting period. If a grantee is only required to report annually, it would select Yr1Qtr4 to denote its reporting period. Final reports would be denoted as a final report. Each Program NOFA will specify the reporting requirement with instructions, and whether a separate final report is required in addition to any annual report. Applicants and grantees must follow the following requirements in completing and naming their Logic Model files:

The applicant name in the Logic Model must match the applicant name in box 8a of the SF424, Application for Federal Financial Assistance Form. If an applicant is submitting more than one application for funding, the project name must be completed and must be different for each funding request made.

DO NOT use special characters (i.e., #, %, /, etc.) in a file name.

DO NOT include spaces in the file name. Limit file names to not more than 50 characters (HUD strongly recommends not more than 32 characters).

DO NOT convert Word files or Excel files into PDF format. Converting to PDF format increases file size and will make it more difficult to upload the application and does not allow HUD to enter data from the Excel files into a database.

DO NOT save your logic model in .xlsm format. If necessary save as an Excel 97-2003 .xls format. Using the .xlsm format can result in a Grants.gov virus detect error. In addition, HUD cannot accept and open .xlsm files.

File names with spaces and special characters in the file name or which contain more than 50 characters present problems for HUD entering the data electronically into our database. Applications that do not follow the naming conventions will have their applications rejected by the Grants.gov website, as the file names that violate these requirements are viewed as containing viruses by the system. Grantees who submit reports that do not meet the file-naming requirements or do not complete mandatory data fields will have their Logic Model reports returned to them for correction of these issues.

For the file name of the eLogic Model®, please follow the file naming conventions and requirements above. After award, the file name for Logic Model must be the award number and reporting period. For detailed instructions, please see the instructions under Tab 1 of the program eLogic Model®, form HUD96010. The reporting periods will be specified in each of the program NOFAs.

HUD's goal is to improve the labeling of the files to improve matching submitted application logic models and report Logic Models, thereby improving HUD's ability to place the information in a database and measure the effectiveness of HUD programs.

Factor 5, Achieving Results and Program Evaluation, will consist of a minimum of 10 points for the Logic Model submission. The matrix provided in Appendix B of this General Section identifies how the Logic Model will be rated in a standardized way across program areas using the Logic Model. Training on the rating factor will be provided via satellite broadcast and archived on HUD's website for repeat viewing. Individual Program NOFAs may specify means other than the Logic Model for capturing performance data for evaluation purposes. Applicants should carefully read the Program NOFA to determine requirements and the Factors for Award which constitutes the basis for scoring each program NOFA.

Additional details about the five rating factors and the maximum points for each factor are provided in individual program NOFAs. For a specific funding opportunity, HUD may modify these factors to take into account explicit program needs or statutory or regulatory limitations. Applicants should carefully read the factors for award as described in the program NOFA to which they are responding.

e. Additional Criteria: Past Performance. In evaluating applications for funding, HUD will take into account an applicant's past performance in managing funds, including, but not limited to, the ability to account for funds appropriately; timely use of funds received either from HUD or other Federal, State, or local programs; timely submission and quality of reports to HUD; meeting program requirements; meeting performance targets as established in Logic Models approved as part of the grant agreement; timelines for completion of activities and receipt of promised matching or leveraged funds; and the number of persons to be served or targeted for assistance. HUD may consider information available from HUD's records; the name check review; public sources such as newspapers; Inspector General or Government Accountability Office reports or findings; or hotline or other complaints that have been proven to have merit.

In evaluating past performance, HUD may elect to deduct points from the rating score or establish threshold levels as specified under the Factors for Award in the individual program NOFAs. Each program NOFA will specify how past performance will be rated.

Agency form numbers, if applicable: HUD-96010.

Estimation of the total number of hours needed to prepare the information collection including number of respondents, frequency of response, and hours of response: An estimation of the total time needed to complete the form is less than ten minutes; number of respondents is 11,000; frequency of response is on the occasion of application submission. The total report burden is 1100 hours.

Status of the proposed information collection: New collection of information for HUD's discretionary programs.

Authority: The Paperwork Reduction Act of 1995, 44 U.S.C. Chapter 35, as amended.

Dated: February 16, 2011.
Colette Pollard,
Departmental Reports Management Officer, Office of the Chief Information Officer.

[FR Doc. 2011-4032 Filed 2-22-11; 8:45 am]

BILLING CODE 4210-67-P